DEPARTMENT OF HOMELAND SECURITY

Coast Guard

33 CFR Part 117

[Docket No. USCG-2011-0276]

Drawbridge Operation Regulation; New Jersey Intracoastal Waterway (NJICW), Beach Thorofare, NJ

AGENCY: Coast Guard, DHS.

ACTION: Notice of temporary deviation from regulations.

SUMMARY: The Commander, Fifth Coast Guard District, has issued a temporary deviation from the regulations governing the operation of the Route 30/Absecon Boulevard Bridge across Beach Thorofare, at NJICW mile 67.2, at Atlantic City, NJ. This deviation is necessary to facilitate extensive rehabilitation and maintenance in order to maintain the bridge's operational integrity. Under this deviation, the bascule lift span of the drawbridge will remain in the closed-to-navigation position for the extent of the effective period.

DATES: This deviation is effective from 7 a.m. on September 16, 2011 through 11:59 p.m. on January 13, 2012.

ADDRESSES: Documents mentioned in this preamble as being available in the docket are part of docket USCG-2011-0276 and are available online by going to http://www.regulations.gov, inserting USCG-2011-0276 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Waverly W. Gregory, Jr., Bridge Administrator, Fifth Coast Guard District; telephone 757-398-6222, e-mail Waverly.W.Gregory@uscg.mil. If you have questions on viewing the docket, call Renee V. Wright, Program Manager, Docket Operations, telephone 202-366-9826.

SUPPLEMENTARY INFORMATION: The New Jersey Department of Transportation (NJDOT) owns and operates the bascule-lift span of the Route 30/Absecon Boulevard Bridge across Beach Thorofare along the NJICW, at Atlantic City, NJ. The bridge has a vertical clearance, in the closed position, to vessels of 20 feet, above mean high water. The current operating regulations are outlined at 33 CFR 117.733(e), which require that the bridge shall open on signal but only if at least four hours of notice is given; except that from April 1 through October 31, from 7 a.m. to 11 p.m., the draw need only open on the hour.

The contractor, IEW Construction Group, on behalf of NJDOT, has requested a temporary deviation to the existing regulations for the Route 30/Absecon Boulevard Bridge in order to facilitate necessary repairs. The work primarily consists of replacing span locks, substructure and superstructure structural repairs, seismic retrofit of piers, cleaning and painting bearings, upgrading the mechanical and electrical systems and renovating the operator and gate house. Under this deviation, the bascule lift span of the drawbridge will be maintained in the closed-to-navigation position from 7 a.m. on September 16, 2011, through 11:59 p.m. on January 13, 2012.

Bridge opening data, supplied by NJDOT and reviewed by the Coast Guard, revealed vessel openings of the draw span between the months of September and December in 2010 and in January 2011. Specifically, in 2010 from September through December, the bridge opened, respectively, 59, 37, 19, and 4 times for vessels; and, in January 2011, the bridge opened only 3 times for vessels.

The Coast Guard will inform the users of the waterway through our Local and Broadcast Notices to Mariners of the closure period so that vessels can arrange their transits to minimize any impact caused by the temporary deviation.

Under this deviation, the navigable channel will not be obstructed so vessels that can pass under the bridge without a bridge opening may continue to do so at anytime. The Atlantic Ocean is an alternate route for vessels with mast heights greater than 20 feet. Due to the nature and extent of the scheduled maintenance, the drawbridge will be unable to open in the event of an emergency.

In accordance with 33 CFR 117.35(e), the drawbridge must return to its regular operating schedule immediately at the end of the designated time period. This deviation from the operating regulation is authorized under 33 CFR 117.35.

Dated: April 12, 2011.
Waverly W. Gregory, Jr.,
Chief, Bridge Administration Branch, Fifth Coast Guard District.

[FR Doc. 2011-9988 Filed 4-25-11; 8:45 am]

BILLING CODE 9110-04-P